ENVIRONMENTAL PROTECTION AGENCY

[EPA-HQ-OAR-2003-0215, 2004-0196, 2004-0453, 2001-0005, 2004-0233, 2002-0089 FRL-8712-6]

Agency Information Collection Activities: Proposed Collection; Comment Request; Emission Guidelines and Compliance Times for Municipal Solid Waste Landfills; National Emission Standards for Inorganic Arsenic Emissions From Primary Copper Smelters; National Emission Standards for Hazardous Air Pollutant Emissions: Group I Polymers and Resins; National Emission Standards for Hazardous Air Pollutant Emissions: Group IV Polymers and Resins; National Emission Standards for Hazardous Air Pollutants: Manufacturing of Nutritional Yeast; National Emission Standards for Hazardous Air Pollutants: Rubber Tire Manufacturing

AGENCY: Environmental Protection Agency (EPA).

ACTION: Notice.

SUMMARY: In compliance with the Paperwork Reduction Act (44 U.S.C. 3501, et seq.), this document announces that EPA is planning to submit a request to reinstate two previously approved Information Collection Requests (ICR) and four new ICR to the Office of Management and Budget (OMB). Before submitting the ICR to OMB for review and approval, EPA is soliciting comments on specific aspects of the proposed information collection as described below.

DATES: Comments must be submitted on or before November 10, 2008.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II.C.

SUPPLEMENTARY INFORMATION:

I. Docket and Comment Information/Instructions

A. How Can I Access the Docket and/or Submit Comments?

1. Docket Access Instructions

EPA has established a public docket for the ICR listed in the SUPPLEMENTARY INFORMATION, section II.B. The docket is available for online viewing at http://www.regulations.gov, or in-person viewing at the Enforcement and Compliance Docket and Information Center (ECDIC), in the EPA Docket Center, EPA West Building, Room 3334, 1301 Constitution Avenue, NW., Washington, DC. The EPA/DC Public Reading Room is open from 8 a.m. to 4:30 p.m., Monday through Friday, excluding legal holidays. The telephone number for the Reading Room is (202) 566-1744, and the telephone number for the ECDIC docket is (202) 566-1752.

Use www.regulations.gov to obtain a copy of the draft collection of information, submit or view public comments, access the index listing of the contents of the docket, and to access those documents in the public docket that are available electronically. When in the system, select “search,” then key in the docket ID number identified in this document.

2. Instructions for submitting comments

Submit your comments by one of the following methods:

(a) Electronic Submission: Access www.regulations.gov and follow the on-line instructions for submitting comments.

(b) E-mail: a-and-r-Docket@epa.gov.

(c) Fax: (202) 566-9744.

(d) Mail: Information Collection Request, Environmental Protection Agency, Mailcode: 2822, 1200 Pennsylvania Ave., NW., Washington, DC 20460.

(e) Hand Delivery: EPA Docket Center, Public Reading Room, EPA West Building, Room 3334, 1301 Constitution Ave., NW., Washington, DC 20004. Such deliveries are only accepted during the Docket's normal hours of operation, and special arrangements should be made for deliveries of boxed information.

Direct your comments to the specific docket listed in SUPPLEMENTARY INFORMATION, section II.B, and reference the OMB Control Number for the ICR. It is EPA's policy that all comments received will be included in the public docket without change and may be made available online at www.regulations.gov, including any personal information provided, unless the comment includes information claimed to be confidential business information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM that you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What Information Is EPA Particularly Interested in?

Pursuant to section 3506(c)(2)(A) of the Paperwork Reduction Act (PRA), EPA is soliciting comments and information to enable it to:

1. Evaluate whether the proposed collections of information are necessary for the proper performance of the functions of the Agency, including whether the information will have practical utility.

2. Evaluate the accuracy of the Agency's estimates of the burdens of the proposed collections of information.

3. Enhance the quality, utility, and clarity of the information to be collected.

4. Minimize the burden of the collections of information on those who are to respond, including the use of appropriate automated or electronic collection technologies or other forms of information technology, e.g., permitting electronic submission of responses.

C. What Should I Consider When I Prepare My Comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

II. ICR To Be Renewed

A. For All ICR

The Agency computed the burden for each of the recordkeeping and reporting requirements applicable to the industry for the currently approved ICR listed in this notice. Where applicable, the Agency identified specific tasks and made assumptions, while being consistent with the concept of the PRA.

Burden means the total time, effort, or financial resources expended by persons to generate, maintain, retain, or disclose or provide information to or for a Federal agency. This includes the time needed to review instructions to: Develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICR address Clean Air Act (CAA) information collection requirements in standards (i.e., regulations) which have mandatory recordkeeping and reporting requirements. Records collected under the national emission standards for hazardous air pollutants (NESHAP) must be retained by the owner or operator for at least 5 years. In general, the required collections consist of emissions data and other information deemed not to be private.

In the absence of such information collection requirements, enforcement personnel would be unable to determine whether the standards are being met on a continuous basis as required by the CAA.

An Agency may not conduct or sponsor, and a person is not required to respond to, a collection of information unless the Agency displays a currently valid OMB control number. The OMB control numbers for EPA's regulations under Title 40 of the Code of Federal Regulations are published in the Federal Register, or on the related collection instrument or form. The display of OMB control numbers for certain EPA regulations is consolidated at 40 CFR part 9.

B. What Information Collection Activity or ICR Does This Apply to?

In compliance with the PRA (44 U.S.C. 3501, et seq.), this notice announces that EPA is planning to submit the following ICR to OMB:

1. Docket ID Number: EPA-HQ-OAR-2003-0215.

Title: Emission Guidelines and Compliance Times for Municipal Solid Waste Landfills (40 CFR part 60, subpart Cc).

ICR Numbers: ICR Number 1893.05, OMB Control Number 2060-0430.

ICR Status: New.

2. Docket ID Number: EPA-HQ-OAR-2004-0196.

Title: National Emission Standards for Inorganic Arsenic Emissions From Primary Copper Smelters (40 CFR part 61, subpart O).

ICR Numbers: EPA ICR Number 1089.04, OMB Control Number 2060-New.

ICR Status: New.

3. Docket ID Number: EPA-HQ-OAR-2004-0453.

Title: National Emission Standards for Hazardous Air Pollutant Emissions: Group I Polymers and Resins (40 CFR part 63, subpart U).

ICR Numbers: EPA ICR Number 1746.01, OMB Control Number 2060-0356.

ICR Status: Discontinued.

4. Docket ID Number: EPA-HQ-OAR-2001-0005.

Title: National Emission Standards for Hazardous Air Pollutant Emissions: Group IV Polymers and Resins (40 CFR part 63, subpart JJJ).

ICR Numbers: EPA ICR Number 1737.01, OMB Control Number 2060-0351.

ICR Status: Discontinued.

5. Docket ID Number: EPA-HQ-OAR-2004-0233.

Title: National Emission Standards for Hazardous Air Pollutants: Manufacturing of Nutritional Yeast (40 CFR part 63, subpart CCCC).

ICR Numbers: EPA ICR Number 1886.02, OMB Control Number 2060-New.

ICR Status: New.

6. Docket ID Number: EPA-HQ-OAR-2002-0089.

Title: National Emission Standards for Hazardous Air Pollutants: Rubber Tire Manufacturing (40 CFR part 63, subpart XXXX).

ICR Numbers: EPA ICR Number 1982.01, OMB Control Number 2060-New.

ICR Status: New.

C. Contact Individuals for ICR

1. Emission Guidelines and Compliance Times for Municipal Solid Waste Landfills (40 CFR Part 60, subpart Cc); Hillary Ward, Office of Air Quality Planning and Standards at (919) 541-3154 or via E-mail to: ward.hillary@epa.gov; EPA ICR Number 1893.05; OMB Control Number 2060-0430.

2. National Emission Standards for Inorganic Arsenic Emissions From Primary Copper Smelters (40 CFR part 61, subpart O); Jeff Telander, Office of Air Quality Planning and Standards at (919) 541-5427 or via E-mail to: telander.jeff@epa.gov; EPA ICR Number 1089.04; OMB Control Number 2060-New.

3. National Emission Standards for Hazardous Air Pollutant Emissions: Group I Polymers and Resins (40 CFR part 63, subpart U); David Markwordt, Office of Air Quality Planning and Standards at (919) 541-0837 or via E-mail to: markwordt.david@epa.gov; EPA ICR Number 1746.01; OMB Control Number 2060-0356; Discontinued.

4. National Emission Standards for Hazardous Air Pollutant Emissions: Group IV Polymers and Resins (40 CFR part 63, Subpart JJJ); David Markwordt, Office of Air Quality Planning and Standards at (919) 541-0837 or via E-mail to: markwordt.david@epa.gov; EPA ICR Number 1737.01; OMB Control Number 2060-0351.

5. National Emission Standards for Hazardous Air Pollutants: Manufacturing of Nutritional Yeast (40 CFR part 63, subpart CCCC); Bill Shrock, Office of Air Quality Planning and Standards at (919) 541-5032 or via E-mail to: schrock.bill@epa.gov; EPA ICR Number 1886.02; OMB Control Number 2060-New.

6. National Emission Standards for Hazardous Air Pollutants: Rubber Tire Manufacturing (40 CFR part 63, subpart XXXX); David Salman, Office of Air Quality Planning and Standards at (919) 541-0859 or via E-mail to: salman.dave@epa.gov; EPA ICR Number 1982.01; OMB Control Number 2060-New.

D. Information for Individual ICR

1. Emission Guidelines and Compliance Times for Municipal Solid Waste Landfills (40 CFR part 60, subpart Cc); Docket ID Number EPA-HQ-OAR-2003-0215, EPA ICR Number 1893.05, OMB Control Number 2060-0430.

Affected Entities: Entities potentially affected by this action are each existing municipal solid waste (MSW) landfill for which construction, reconstruction, or modification commenced before May 30, 1991.

The affected entities are subject to the emission guidelines at 40 CFR part 60, subpart Cc.

Abstract: The information collection includes initial reports and periodic recordkeeping necessary for EPA to ensure compliance with emission guidelines and compliance times for the control of certain designated pollutants from certain designated MSW landfills in accordance with section 111(d) of the CAA and subpart B of 40 CFR part 60. Responses to the collection are mandatory under 40 CFR part 60, subpart Cc—Emission Guidelines and Compliance Times for Municipal Solid Waste Landfills. All information submitted to EPA for which a claim of confidentiality is made will be safeguarded according to the Agency policies set forth in 40 CFR part 2, subpart B—Confidentiality of Business Information.

Burden Statement: The annual public reporting and recordkeeping burden for this collection of information is estimated to average approximately 72 hours per response.

Respondents/Affected Entities: Each existing MSW landfill for which construction, reconstruction, or modification commenced before May 30, 1991.

Estimated Number of Respondents: 173.

Frequency of Response: Quarterly, annual.

Estimated Total Annual Hour Burden: 12,456.

Estimated Total Annual Cost: $242,200. This includes an estimated burden cost of $242,200.

2. National Emission Standards for Inorganic Arsenic Emissions From Primary Copper Smelters (40 CFR part 61, Subpart O); Docket ID Number EPA-HQ-OAR-2004-0196, EPA ICR Number 1089.04, OMB Control Number 2060-New.

Affected Entities: Entities potentially affected by this action are primary copper smelters in the United States, including the District of Columbia, and all United States territories.

The affected entities are subject to the General Provisions of NESHAP at 40 CFR part 61, subpart A, and any changes, or additions to the General Provisions specified at 40 CFR part 61, subpart O.

Abstract: Owners or operators of new or the 4 existing primary copper smelters are subject to the current rule (40 CFR part 61, subpart O) and no new smelters are projected. The existing rule establishes design, equipment, work practice, and operational standards for primary copper smelters where the total arsenic charging rate for the copper converter department averaged over a 1-year period is less than 75 kilograms/hour (hr) (165 pounds/hr), as determined under 40 CFR 61.174(f). Arsenic emissions from all four of these smelters are below the regulatory threshold and are not required to operate air emission controls or monitoring systems. The existing rule requires that these smelters perform monthly sampling and analyses to determine the converter charging rate, keep a daily log, and submit annual reports to demonstrate that inorganic arsenic emissions remain under the regulatory threshold. Respondents are owners or operators of new or existing primary copper smelters. Responses to the collection are mandatory under 40 CFR part 61, subpart O, National Emission Standards for Inorganic Arsenic Emissions From Primary Copper Smelters.

Burden Statement: The annual public reporting and recordkeeping burden for this collection of information is estimated to average approximately 792 hours per response.

Respondents/Affected Entities: Primary Copper Smelters.

Estimated Number of Respondents: 4.

Frequency of Response: Annually, quarterly.

Estimated Total Annual Hour Burden: 3,167.

Estimated Total Annual Cost: The estimated total annual cost for the monitoring, recordkeeping, and reporting requirements for the four existing facilities subject to the Inorganic Arsenic Emissions from Primary Copper Smelters NESHAP is 3,167 person-hours, with an annual average cost of $297,703, an operation and maintenance (O&M) cost of $2,000, and no capital costs.

3. National Emission Standards for Hazardous Air Pollutant Emissions: Group I Polymers and Resins (40 CFR part 63, subpart U); Docket ID Number EPA-HQ-OAR-2004-0453, EPA ICR Number 1746.01, OMB Control Number 2060-0356.

Affected Entities: Entities potentially affected by this action are those which produce elastomers and thermoplastics.

The affected entities are subject to the General Provisions of NESHAP at 40 CFR part 63, subpart A, and any changes or additions to the General Provisions specified at 40 CFR part 63, subpart U.

Abstract: The information collection includes initial reports and periodic recordkeeping necessary for EPA to ensure compliance with Federal standards for hazardous air pollutants from the production of elastomers and thermoplastics. Responses to the collection are mandatory under 40 CFR part 63, subpart U—National Emission Standards for Hazardous Air Pollutant Emissions: Group I Polymers and Resins. All information submitted to EPA for which a claim of confidentiality is made will be safeguarded according to the Agency policies set forth in 40 CFR part 2, subpart B—Confidentiality of Business Information.

Burden Statement: The annual public reporting and recordkeeping burden for this collection of information is estimated to average approximately 2,935 hours per response.

Respondents/Affected Entities: Producers of elastomers and thermoplastics.

Estimated Number of Respondents: 43.

Frequency of Response: Semiannually, quarterly.

Estimated Total Annual Hour Burden: 126,227.

Estimated Total Annual Cost: $4,060,000. This includes an estimated burden cost of $4,060,000.

4. National Emission Standards for Hazardous Air Pollutant Emissions: Group IV Polymers and Resins (40 CFR part 63, subpart JJJ); Docket ID Number EPA-HQ-OAR-2001-0005, EPA ICR Number 1737.01, OMB Control Number 2060-0351.

Affected Entities: Entities potentially affected by this action are those which manufacturer acrylonitrile butadiene styrene resin, styrene acrylonitrile resin, methyl methacrylate acrylonitrile butadiene styrene resin, methyl methacrylate butadiene styrene resin, polystyrene resin, polyethylene terephthalate resin, and nitrile resin.

The affected entities are subject to the General Provisions of NESHAP at 40 CFR part 63, subpart A, and any changes or additions to the General Provisions specified at 40 CFR part 63, subpart JJJ.

Abstract: The information collection includes initial reports and periodic recordkeeping necessary for EPA to ensure compliance with Federal standards for hazardous air pollutants from the manufacture of acrylonitrile butadiene styrene resin, styrene acrylonitrile resin, methyl methacrylate acrylonitrile butadiene styrene resin, methyl methacrylate butadiene styrene resin, polystyrene resin, and nitrile resin. Responses to the collection are mandatory under 40 CFR part 63, subpart JJJ—National Emission Standards for Hazardous Air Pollutant Emissions: Group IV Polymers and Resins. All information submitted to the EPA for which a claim of confidentiality is made will be safeguarded according to the Agency policies set forth in 40 CFR part 2, subpart B—Confidentiality of Business Information.

Burden Statement: The annual public reporting and recordkeeping burden for this collection of information is estimated to average approximately 3,980 hours per response.

Respondents/Affected Entities: Manufacturers of acrylonitrile butadiene styrene resin, styrene acrylonitrile resin, methyl methacrylate acrylonitrile butadiene styrene resin, methyl methacrylate butadiene styrene resin, polystyrene resin, and nitrile resin.

Estimated Number of Respondents: 91.

Frequency of Response: Semiannually, quarterly.

Estimated Total Annual Hour Burden: 362,500.

Estimated Total Annual Cost: $11,647,000. This includes an estimated burden cost of $11,647,000.

5. National Emission Standards for Hazardous Air Pollutants: Manufacturing of Nutritional Yeast (40 CFR part 63); Docket ID Number EPA-HQ-OAR-2004-0233, EPA ICR Number 1886.02, OMB Control Number 2060-New.

Affected Entities: Entities potentially affected by this action are those which manufacturer varieties of saccharomyces cerevisiae nutritional yeast made for the purpose of becoming an ingredient in dough for bread or other yeast-raised baked product, and for becoming a nutritional food additive in the United States, including the District of Columbia, and all United States territories.

The affected entities are subject to the General Provisions of NESHAP at 40 CFR part 63, subpart A, and any changes or additions to the General Provisions specified at 40 CFR part 63, subpart CCCC.

Abstract: The information collection includes initial reports and periodic recordkeeping necessary for EPA to ensure compliance with Federal standards for hazardous air pollutants from the manufacture of nutritional yeast. Respondents are manufacturers of nutritional yeast. Responses to the collection are mandatory under 40 CFR part 63, subpart CCCC—National Emission Standards for Hazardous Air Pollutants: Manufacturing of Nutritional Yeast. All information submitted to the EPA for which a claim of confidentiality is made will be safeguarded according to the Agency policies set forth in 40 CFR part 2, subpart B—Confidentiality of Business Information.

Burden Statement: The annual public reporting and recordkeeping burden for this collection of information is estimated to average approximately 350 hours per response.

Respondents/Affected Entities: Manufacturers of saccharomyces cerevisiae nutritional yeast.

Estimated Number of Respondents: 10.

Frequency of Response: Semiannually, quarterly.

Estimated Total Annual Hour Burden: 3,459.

Estimated Total Annual Cost: $295,436. This includes an estimated burden cost of $146,972 and an estimated cost of $148,463 for capital investment or O&M costs.

6. National Emission Standards for Hazardous Air Pollutants: Rubber Tire Manufacturing (40 CFR part 63, subpart XXXX); Docket ID Number EPA-HQ-OAR-2002-0089, EPA ICR Number 1982.01, OMB Control Number 2060-New.

Affected Entities: Entities potentially affected by this action are those which manufacturer rubber tires.

The affected entities are subject to the General Provisions of NESHAP at 40 CFR part 63, subpart A, and any changes or additions to the General Provisions specified at 40 CFR part 63, subpart XXXX.

Abstract: The information collection includes initial reports and periodic recordkeeping necessary for EPA to ensure compliance with Federal standards for hazardous air pollutants from the manufacture of rubber tires. Responses to the collection are mandatory under 40 CFR part 63, subpart XXXX—National Emission Standards for Hazardous Air Pollutants: Rubber Tire Manufacturing. All information submitted to the EPA for which a claim of confidentiality is made will be safeguarded according to the Agency policies set forth in 40 CFR part 2, subpart B—Confidentiality of Business Information.

Burden Statement: The annual public reporting and recordkeeping burden for this collection of information is estimated to average approximately 355 hours per response.

Respondents/Affected Entities: Manufacturers of rubber tires.

Estimated Number of Respondents: 38.

Frequency of Response: Semiannually, quarterly.

Estimated Total Annual Hour Burden: 12,800.

Estimated Total Annual Cost: $2,055,000. This includes an estimated burden cost of $701,000 and an estimated cost of $1,354,000 for capital investment or O&M costs.

EPA will consider any comments received and may amend any of the above ICR, as appropriate. Then the final ICR packages will be submitted to OMB for review and approval pursuant to 5 CFR 1320.12. At that time, EPA will issue one or more Federal Register notices pursuant to 5 CFR 1320.5(a)(1)(iv) to announce the submission of the ICR to OMB and the opportunity to submit additional comments to OMB. If you have any questions about any of the above ICR or the approval process, please contact the person listed under FOR FURTHER INFORMATION CONTACT.

Dated: August 28, 2008.
Jenny Noonan Edmonds,
Acting Director, Office of Air Planning and Standards.

[FR Doc. E8-21044 Filed 9-9-08; 8:45 am]

BILLING CODE 6560-50-P